DEPARTMENT OF COMMERCE

National Oceanic and Atmospheric Administration

RIN 0648-XF294

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel to consider actions affecting New England fisheries in the exclusive economic zone (EEZ). Recommendations from this group will be brought to the full Council for formal consideration and action, if appropriate.

DATES: This meeting will be held on Tuesday, April 4, 2017 at 10 a.m.

ADDRESSES: The meeting will be held at the Wentworth by the Sea, 588 Wentworth Road, New Castle, NH 03854; telephone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel will discuss alternatives being considered in Amendment 8 to the Atlantic Herring Fishery Management Plan. Measures include alternative Acceptable Biological Catch (ABC) control rules and measures to address potential localized depletion and user conflicts in the herring fishery. The Panel may recommend a final range of alternatives for the Committee to consider the following day. The panel will also review preliminary outcomes from the external peer review of the Management Strategy Evaluation of Atlantic herring ABC control rules held in March 2017. The Panel will also review the proposed action for the herring fishery in the Omnibus Industry Funded Monitoring (IFM) Amendment and make any necessary clarifications or adjustments. Other business will be discussed as necessary.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: March 14, 2017.
Tracey L. Thompson,
Acting Deputy Director, Office of Sustainable Fisheries, National Marine Fisheries Service.

[FR Doc. 2017-05361 Filed 3-16-17; 8:45 am]

BILLING CODE 3510-22-P